DEPARTMENT OF THE INTERIOR

Bureau of Land Management

[AK-933-1430-ET; AA-82857]

Notice of Proposed Withdrawal and Opportunity for Public Meeting; Alaska

AGENCY: Bureau of Land Management, Interior.

ACTION: Notice.

SUMMARY: The U.S. Department of Agriculture, Forest Service, has filed an application to withdraw approximately 2,998 acres of National Forest System land for the Russian River and Upper Russian Lake Recreation Corridor. The proposed withdrawal will aid in protecting the fisheries, recreational, and archeological resources of the area. This notice closes the land for up to 2 years from location and entry under the United States mining laws. The land will remain open to all uses which can be made of National Forest lands, and all public uses consistent with the recreational utilization and protection of the Russian River watershed.

DATES: Comments and requests for a public meeting must be received by May 29, 2001.

ADDRESSES: Comments and meeting requests should be sent to the Alaska State Director, BLM Alaska State Office, 222 West 7th Avenue, No. 13, Anchorage, Alaska 99513-7599. You can access information about sending comments electronically at: www.anchorage.ak.blm.gov/wdlcom01.html.

FOR FURTHER INFORMATION CONTACT: Robbie J. Havens, BLM Alaska State Office, 907-271-5477.

SUPPLEMENTARY INFORMATION: On February 2, 2001, the U.S. Department of Agriculture, Forest Service, filed an application to withdraw the following described National Forest System land from the public land laws, including location and entry under the United States mining laws, subject to valid existing rights:

Seward Meridian

Chugach National Forest

T. 3 N., R. 4 W., unsurveyed,

Sec. 4, N½ lying east of forest boundary, SE¼ lying east of forest boundary;

Sec. 9, NE¼ lying east of forest boundary;

Sec. 10, N½ lying north of forest boundary;

Sec. 11, that portion lying north of forest boundary, excluding the N½NE¼;

Sec. 12, S½ lying northeast of forest boundary;

Sec. 13, N½ lying north of the ordinary high water mark along the northeast shore of Upper Russian Lake.

T. 4 N., R. 4 W., unsurveyed,

Sec. 9, SE¼NE¼, E½SE¼;

Sec. 10, SW¼NW¼, W½SW¼;

Sec. 16, E½NE¼, SE¼;

Sec. 21, W½E½, S½NW¼ lying east of forest boundary, SW¼ lying east of forest boundary; sec. 28, W½E½, W½ lying east of forest boundary;

Sec. 29, E½ lying east of forest boundary;

Sec. 32, NE¼ lying east of forest boundary;

Sec. 33, W½ E½, W½ lying east of forest boundary.

The area described contains approximately 2,998 acres.

For a period of 90 days from the date of publication of this notice, all persons who wish to submit comments, suggestions, or objections in connection with the proposed withdrawal may present their views in writing to the Alaska State Director of the Bureau of Land Management at the address indicated above.

Notice is hereby given that an opportunity for a public meeting is afforded in connection with the proposed withdrawal. All interested persons who desire a public meeting for the purpose of being heard on the proposed withdrawal must submit a written request to the Alaska State Director within 90 days from the date of publication of this notice. Upon determination by the authorized officer that a public meeting will be held, a notice of the time and place will be published in the Federal Register at least 30 days before the scheduled date of the meeting.

The application will be processed in accordance with the regulations set forth in 43 CFR 2300.

For a period of 2 years from the date of publication of this notice in the Federal Register, the land will be segregated as specified above unless the application is denied or canceled or the withdrawal is approved prior to that date.

The land will be managed in accordance with the various acts that govern occupancy and use of National Forest System lands. Temporary uses which may be permitted during this segregative period would be for land use authorizations that are compatible with intended uses allowed under the discretion of the authorized officer.

Dated: February 15, 2001.
C. Michael Brown,
Acting Chief, Lands Branch, Division of Lands, Minerals, and Resources.

[FR Doc. 01-4823 Filed 2-27-01; 8:45 am]

BILLING CODE 4310-JA-P